FEDERAL MARITIME COMMISSION

[Petition No. P5-15]

Petition of Pacific International Lines and Mariana Express Lines for an Exemption From Commission Regulations; Notice of Filing and Request for Comments

This is to provide notice of filing and to invite comments on or before November 13, 2015, with regard to the Petition described below.

Pacific International Lines (Private) Limited (PIL) and Mariana Express Lines Pte. Ltd. (MELL) (Petitioners), have petitioned the Commission pursuant to 46 CFR 502.74, for an exemption “equivalent to that contained in 46 CFR 535.307.” The Commission's regulations at 46 CFR 535.307 exempt agreements between or among wholly owned subsidiaries from the filing requirements of the Shipping Act. Specifically, Petitioners state that on March 11, 2015, PIL acquired sixty-five (65%) percent of the shares of MELL. Petitioners assert that FMC law and regulations would likely require PIL and MELL to file a number of agreements between themselves with the FMC, delay and what should be routine day-to-day decisions between a parent and its subsidiary.

The Petition in its entirety will be posted on the Commission's Web site at http://www.fmc.gov/p5-15. Comments filed in response to this Petition also will be posted on the Commission's Web site at this location.

In order for the Commission to make a thorough evaluation of the Petition, interested persons are requested to submit views or arguments in reply to the Petition no later than November 13, 2015. Commenters must send an original and 5 copies to the Secretary, Federal Maritime Commission, 800 North Capitol Street NW., Washington, DC 20573-0001, and be served on Petitioner's counsel, Neal M. Mayer, Hoppel, Mayer & Coleman, 1050 Connecticut Avenue NW., 10th Floor, Washington, DC 20036. A text-searchable PDF copy of the reply must also be sent as an attachment to secretary@fmc.gov and include in the subject line: “P5-15, PIL and MELL Petition.” Replies containing confidential information should not be submitted by email.

Karen V. Gregory,
Secretary.

[FR Doc. 2015-27053 Filed 10-22-15; 8:45 am]

BILLING CODE 6731-AA-P